DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Fund within the Department of the Treasury is soliciting comments concerning the NMTC Program allocation agreement for NMTC Program allocatees.

DATES: Written comments should be received on or before January 5, 2007 to be assured of consideration.

ADDRESSES: Direct all comments on the information collections related to the specified sections of the NMTC Program Allocation Agreement to: Jeffrey C. Berg, Legal Counsel, Community Development Financial Institutions Fund, U.S. Department of the Treasury, 601 13th Street, NW., Suite 200 South, Washington, DC 20005, allocationagreementcomments @cdfi.treas.gov, Facsimile Number (202) 622-8244.

FOR FURTHER INFORMATION CONTACT: A copy of the allocation agreement information collection may be obtained from the Fund's Web site at http://www.cdfifund.gov. Requests for additional information regarding the specified sections of the NMTC Program Allocation Agreement should be directed to Jeffrey C. Berg, Legal Counsel: (i) By mail to: Community Development Financial Institutions Fund, U.S. Department of the Treasury, 601 13th Street, NW., Suite 200 South, Washington, DC 20005; (ii) by e-mail to: allocationagreementcomments @cdfi.treas.gov; or (iii) by fax to: (202) 622-8244.

SUPPLEMENTARY INFORMATION: Title: NMTC Program Allocation Agreement—Disclosure, Audited Financial Statements.

OMB Number: 1559-0023.

Abstract: In order to qualify for an allocation of tax credits under the NMTC Program, an entity must be certified as a qualified community development entity and submit an allocation application to the Fund. Upon receipt of such applications, the Fund will conduct a competitive review process to evaluate applications for the receipt of NMTC allocations. Entities receiving an NMTC allocation must enter into an allocation agreement with the Fund. The allocation agreement contains the terms and conditions associated with the receipt of an NMTC allocation. Comments are requested on certain disclosure requirements contained in the allocation agreement as well as the requirement for the submission of a copy of the allocatee's audited financial statements. The specific sections of the allocation agreement for which comments are sought may be obtained from the Fund's Web site at http://www.cdfifund.gov.

Current Action: Extension.

Type of Review: Renewal.

Affected Public: Businesses or other for-profit institutions; not-for-profit institutions, and tribal entities.

Estimated Number of Respondents:

Allocation Agreement (§§ 6.2 and 6.9): 5.

Allocation Agreement (§ 6.10): 62.

Estimated Annual Time Per Respondent:

Allocation Agreement (§§ 6.2 and 6.9): 2 hours.

Allocation Agreement (§ 6.10): 1 hour.

Estimated Total Annual Burden Hours:

Allocation Agreement (§§ 6.2 and 6.9): 10 hours.

Allocation Agreement (§ 6.10): 62 hours.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Comments are also requested on §§ 6.2, 6.5(c), 6.9 and 6.10 of the NMTC Program Allocation Agreement (please note that there is no burden anticipated for § 6.5(c) since this collection of information is usual and customary for the respondents).

Authority: Consolidated Appropriations Act of 2001, Public Law 106-554; 31 U.S.C. 321.

Dated: October 31, 2006.
Arthur A. Garcia,
Director, Community Development Financial Institutions Fund.

[FR Doc. E6-18651 Filed 11-3-06; 8:45 am]

BILLING CODE 4810-70-P